DEPARTMENT OF HOMELAND SECURITY

Transportation Security Administration

Intent To Request Approval From OMB of One New Public Collection of Information: Traveler Identity Verification Form (TIVF)

AGENCY: Transportation Security Administration, DHS.

ACTION: Notice.

SUMMARY: The Transportation Security Administration (TSA) invites public comment on a new information collection requirement abstracted below that we will submit to the Office of Management and Budget (OMB) for approval in compliance with the Paperwork Reduction Act.

DATES: Send your comments by August 28, 2006.

ADDRESSES: Comments may be mailed or delivered to Katrina Wawer, Attorney-Advisor, Office of the Chief Counsel, TSA-2, Transportation Security Administration, 601 South 12th Street, Arlington, VA 22202-4220.

FOR FURTHER INFORMATION CONTACT: Katrina Wawer at the above address, or by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

In order to accurately and effectively assess threats to transportation, and in accordance with 49 U.S.C. 114(f), TSA has developed a redress process for individuals who are delayed or prohibited from boarding a flight as a result of the current Watch List clearance procedures performed by air carriers. TSA will collect information from individuals who believe they have been unfairly or incorrectly delayed, denied boarding, or identified for additional screening at our Nation's airports, on a Traveler Identity Verification Form (TIVF). This will allow TSA to properly identify and distinguish individuals who have a name similarity to an entry on either the No-Fly or Selectee lists, and to determine whether individuals who are on the No-Fly or Selectee lists are correctly included on those lists. In order to make these determinations, TSA will compare the identifying data provided on the TIVF to information about individuals identified on the No-Fly and Selectee lists.

Description of Data Collection

The likely respondents to this proposed information requirement are individuals who are delayed or prohibited from boarding a flight as a result of the current Watch List clearance procedures conducted by air carriers. In order to seek redress, individuals will complete a Traveler Identity Verification Form, or TIVF (formerly called the Passenger Identity Verification Form (PIVF)). These individuals will submit the TIVF, under the penalty of perjury, to TSA, with either a copy of a U.S. Passport, or at least three documents containing certain personal identifying information, such as a birth certificate, driver's license, and voter registration card, as identified on the TIVF. In addition to collecting personally identifiable information, TSA will also collect incident information, including incident date, airline, and flight number as proof of travel. The TIVF will be available on the TSA Web site, at http://www.tsa.gov. Individuals will have the option to complete and submit the form online, or to download the form and mail it to TSA with the required documents. TSA estimates that approximately 26,000 individuals will avail themselves of the redress process for the Watch List clearance procedures on an annual basis. TSA estimates that completing the form, gathering, and submitting the information will take approximately one hour per respondent. Thus, TSA estimates the total annual hour burden for individuals seeking redress to be 26,000 hours.

Use of Results

TSA will use the information in support of the agency's redress process for individuals who believe they have been incorrectly delayed or denied boarding for a particular flight as a result of the current Watch List clearance procedure performed by air carriers. TSA will utilize the personally identifying information and proof of travel in order to expedite the watch list clearance process.

Issued in Arlington, Virginia, on June 22, 2006.
Lisa S. Dean,
Privacy Officer.

[FR Doc. E6-10232 Filed 6-28-06; 8:45 am]

BILLING CODE 9110-05-P